DEPARTMENT OF ENERGY

Federal Energy Regulatory Commission

[Project No. 271-062—Arkansas]

Entergy Arkansas, Inc.; Notice of Availability of Environmental Assessment

December 28, 2001.

In accordance with the National Environmental Policy Act of 1969 and the Federal Energy Regulatory Commission's (Commission) regulations, 18 CFR part 380 (Order No. 486, 52 FR 47897), the Office of Energy Projects has reviewed the application for new license for the Carpenter-Remmel Hydro Project, located on the Ouachita River in Garland and Hot Springs Counties, Arkansas, and has prepared an Environmental Assessment (EA). In the EA, the Commission staff has analyzed the potential environmental effects of the project and has concluded that approval of the project, with appropriate environmental measures, would not constitute a major Federal action significantly affecting the quality of the human environment.

Copies of the EA are available for review in the Public Reference Branch, Room 2-A, of the Commission's offices at 888 First Street, NE., Washington, DC 20426. The EA may also be viewed on the web at http://www.ferc.fed.gov using the “RIMS” link, select “Docket#” and follow the instructions. Please call (202) 208-2222 for assistance.

Any comments should be filed within 45 days from the date of this notice and should be addressed to Secretary, Federal Energy Regulatory Commission, 888 First Street, NE., Room 1-A, Washington, DC 20426. Please affix “Carpenter-Remmel Hydroelectric Project No. 271-062” to all comments. For further information, contact Ed Lee at (202) 219-2809. Comments may be filed electronically via the Internet in lieu of paper. See 18 CFR 385.2001(a)(1)(iii) and the instructions on the Commission's Web site under the “e-Filing” link.

Linwood A. Watson, Jr.,
Acting Secretary.

[FR Doc. 02-175 Filed 1-3-02; 8:45 am]

BILLING CODE 6717-01-P